FEDERAL COMMUNICATIONS COMMISSION

[WC Docket No. 17-97; DA 21-12; FRS 17371]

Pleading Cycle Established for Petitions for Reconsideration of Portions of the Call Authentication Trust Anchor Second Report and Order

AGENCY: Federal Communications Commission.

ACTION: Notice; request for comments.

SUMMARY: In this document, the Wireline Competition Bureau establishes a pleading cycle for Petitions for Reconsideration of portions of the Call Authentication Trust Anchor Second Report and Order.

DATES: Oppositions due January 29, 2021 and replies due February 8, 2021.

ADDRESSES: All pleadings are to reference WC Docket No. 17-97. Oppositions and replies may be filed using the Commission's Electronic Comment Filing System (ECFS), or by filing paper copies.

• Electronic Filers: Oppositions and replies may be filed electronically using the internet by accessing the ECFS: http://apps.fcc.gov/ecfs.

• Paper Filers: Parties who choose to file by paper must file an original and one copy of each filing. Filings can be sent by commercial overnight courier, or by first-class or overnight U.S. Postal Service mail. All filings must be addressed to the Commission's Secretary, Office of the Secretary, Federal Communications Commission.

• People with Disabilities: To request materials in accessible formats for people with disabilities (Braille, large print, electronic files, audio format), send an email to fcc504@fcc.gov or call the Consumer & Governmental Affairs Bureau at (202) 418-0530 (voice), (202) 418-0432 (TTY).

FOR FURTHER INFORMATION CONTACT: For further information, please contact Mason Shefa, Competition Policy Division, Wireline Competition Bureau, at (202) 418-2962, mason.shefa@fcc.gov.

SUPPLEMENTARY INFORMATION: On September 29, 2020, the Commission adopted the Call Authentication Trust Anchor Second Report and Order. The Second Report and Order set forth rules to make clear the obligations and deadlines for voice service providers regarding caller ID authentication and completed implementation of the caller ID authentication provisions of the TRACED Act.

On December 17, 2020, CTIA and Voice on the Net (VON) Coalition each filed petitions for reconsideration of portions of the Second Report and Order (together Petitions for Reconsideration). CTIA requests that the Commission eliminate the prohibition in section 64.6305(c) on voice service providers accepting calls from foreign voice service providers that use U.S. North American Numbering Plan resources and are not listed in the Robocall Mitigation Database. VON makes the same request as CTIA and further requests elimination of the requirement in section 64.6305(b)(4) that voice service provider certifications provide the name, telephone number, physical address, and email address of a central point of contact within the company responsible for addressing robocall mitigation-related issues.

Pursuant to the Commission's rules, oppositions to the Petitions for Reconsideration must be filed no later than January 29, 2021, and replies to oppositions must be filed no later than February 8, 2021. Oppositions and replies may be filed using the Commission's Electronic Comment Filing System (ECFS), or by filing paper copies. See Electronic Filing of Documents in Rulemaking Proceedings, 63 FR 24121 (1998).

• Electronic Filers: Oppositions and replies may be filed electronically using the internet by accessing the ECFS: https://www.fcc.gov/ecfs.

• Paper Filers: Parties who choose to file by paper must file an original and one copy of each filing. Filings can be sent by commercial overnight courier, or by first-class or overnight U.S. Postal Service mail. All filings must be addressed to the Commission's Secretary, Office of the Secretary, Federal Communications Commission.

○ Commercial overnight mail (other than U.S. Postal Service Express Mail and Priority Mail) must be sent to 9050 Junction Drive, Annapolis Junction, MD 20701.

○ U.S. Postal Service first-class, Express, and Priority mail must be addressed to 45 L Street NE, Washington, DC 20554.

○ Effective March 19, 2020, and until further notice, the Commission no longer accepts any hand or messenger delivered filings. This is a temporary measure taken to help protect the health and safety of individuals, and to mitigate the transmission of COVID-19. See FCC Announces Closure of FCC Headquarters Open Windo and Change in Hand-Delivery Policy, Public Notice, DA 20-304 (March 19, 2020), https://www.fcc.gov/document/fcc-closes-headquarters-open-window-and-changes-hand-delivery-policy.

• People with Disabilities. To request materials in accessible formats for people with disabilities (Braille, large print, electronic files, audio format), send an email to fcc504@fcc.gov or call the Consumer & Governmental Affairs Bureau at (202) 418-0530 (voice), (202) 418-0432 (TTY).

• Ex Parte Rules. This proceeding shall continue to be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Daniel Kahn,
Associate Chief, Wireline Competition Bureau.

[FR Doc. 2021-00578 Filed 1-13-21; 8:45 am]

BILLING CODE 6712-01-P